OFFICE OF MANAGEMENT AND BUDGET

Notice of Training Sessions: Effective Participation in Executive Order 12866 Meetings With the Office of Information and Regulatory Affairs

AGENCY: Office of Management and Budget, Executive Office of the President.

ACTION: Notice of training sessions.

SUMMARY: Pursuant to Executive Order 12866, interested members of the public may request a meeting with the Office of Information and Regulatory Affairs (OIRA) to present their views about a regulatory action that is under OIRA review. These meetings, known as E.O. 12866 meetings, serve as listening sessions for OIRA officials and representatives from the agency or agencies taking the regulatory action. Section 2(e) of Executive Order 14094 (Modernizing Regulatory Review) directed the OIRA Administrator to implement reforms designed to protect public trust in the regulatory process, including ensuring access for meeting requesters who have not historically requested such meetings. On December 20, 2023, OIRA issued Guidance Implementing Section 2(e) of Executive Order 14094 (Guidance), describing OIRA's E.O. 12666 meeting policy, and its strategy for inclusive and transparent meetings. To assist members of the public seeking to request an E.O. 12866 meeting, OIRA has modified its website and posted an instructional video and a step-by-step guide to requesting a meeting, in English and Spanish, on its website. As outlined in the Guidance, to encourage participation by those who have not historically requested E.O. 12866 meetings, including those from underserved communities, OIRA will offer periodic and accessible trainings on effective participation in E.O. 12866 meetings. For calendar year 2024, OIRA will be holding two virtual sessions to provide training on how to request and how to effectively participate in E.O. 12866 meetings.

DATES: The training sessions will be held on July, 9 2024, at 3 to 3:45 p.m., Eastern Time, and July 16, 2024, at 1 to 1:45 p.m., Eastern Time.

ADDRESSES: Information to access the virtual training sessions will be provided upon registration. Members of the public may register by sending an email to publicparticipation@omb.eop.gov, noting the session they would like to attend.

FOR FURTHER INFORMATION CONTACT: Please email the Office of Management and Budget at publicparticipation@omb.eop.gov.

SUPPLEMENTARY INFORMATION: Executive Order 12866 establishes and governs the process under which OIRA reviews agencies' significant regulatory actions. E.O. 12866 provides that members of the public may meet with OIRA during OIRA's review of draft proposed and final rules. These meetings, known as E.O. 12866 meetings, offer an opportunity for members of the public to present their views on regulatory actions under review. OIRA invites representatives from the agency or agencies taking the regulatory action to these meetings, though participation may be limited by scheduling or other considerations. E.O. 12866 meetings serve as listening sessions for OIRA and agency representatives, and both the identity of meeting attendees and any written materials provided by the meeting requestors are disclosed on OIRA's website.

OIRA benefits from receiving a diverse array of perspectives from the public during regulatory review. Members of the public can share their views with OIRA on a regulatory action under review, as well as any scientific, technical, social, or economic information, or information drawn from individual experiences that may be helpful to OIRA officials while reviewing a regulatory action. During such meetings, OIRA officials may ask clarifying questions, but will not share deliberative or pre-decisional information about the regulatory action under review. E.O. 12866 meetings with OIRA and the agency are not a substitute for submitting comments to the agency under the agency's applicable regulatory procedures, but instead provide an opportunity to emphasize or highlight information relevant to OIRA review.

OIRA has an “open door” policy with respect to meeting requests. Any individual may request a meeting regarding a regulatory action under review. OIRA makes all reasonable efforts to accommodate meeting requests. However, OIRA staff do not affirmatively reach out to outside parties to schedule E.O. 12866 meetings or to solicit specific views. OIRA does not schedule or prioritize E.O. 12866 meetings based on identity or viewpoint. OIRA encourages requestors to submit E.O. 12866 meeting requests as soon as possible after the start of OIRA review.

In an effort to facilitate meeting requests, OIRA has modified its website to simplify the request form and to provide several avenues through which outside parties can request meetings.¹ In addition, OIRA has provided detailed written step-by-step instructions in English and Spanish,² as well as a video (also translated into Spanish),³ on its website, RegInfo.gov, on how to schedule a meeting. To facilitate broader participation in E.O. 12866 meetings, including by requestors who have not historically requested such meetings or face challenges in traveling to Washington, DC, OIRA holds E.O. 12866 meetings virtually, primarily as teleconferences.

¹ https://www.reginfo.gov/public/do/eo/neweomeeting.

² https://www.reginfo.gov/public/jsp/Utilities/E.O.-12866-Video-Transcript-english.pdf (in English); and https://www.reginfo.gov/public/jsp/Utilities/E.O.-12866-Video-Transcript-spanish.pdf (in Spanish).

³ https://www.youtube.com/watch?v=1zxsAFsgJ3I (in English) and https://www.youtube.com/watch?v=9dRt4XxZ78c (in Spanish).

To encourage participation by members of the public who have not historically requested E.O. 12866 meetings, including members of underserved communities, OIRA will offer periodic and accessible trainings on effective participation in E.O. 12866 meetings. OIRA will hold two training sessions in 2024, one on July 9, 2024, at 3 to 3:45 p.m., Eastern Time, and another on July 16, 2024, at 1 to 1:45 p.m., Eastern Time. At these training sessions, OIRA will describe (1) what an E.O. 12866 meeting is; (2) how members of the public may request and schedule a meeting; (3) the format of E.O. 12866 meetings; (4) what type of information or input is most helpful to receive during an E.O. 12866 meeting; and (5) what makes for an effective presentation during an E.O. 12866 meeting.

Richard L. Revesz,
Administrator, Office of Information and Regulatory Affairs.

[FR Doc. 2024-13018 Filed 6-14-24; 8:45 am]

BILLING CODE 3110-01-P